INTERNATIONAL TRADE COMMISSION

Sunshine Act Meeting

AGENCY HOLDING THE MEETING: United States International Trade Commission

TIME AND DATE: June 11, 2001 at 11 a.m.

PLACE: Room 101, 500 E Street SW., Washington, DC 20436, Telephone: (202) 205-2000

STATUS: Open to the public

MATTERS TO BE CONSIDERED: 1. Agenda for future meeting: None

2. Minutes

3. Ratification List

4. Inv. No. 731-TA-932 (Preliminary) (Folding Metal Tables and Chairs from China)—briefing and vote. (The Commission is currently scheduled to transmit its determination to the Secretary of Commerce on June 11, 2001; Commissioners' opinions are currently scheduled to be transmitted to the Secretary of Commerce on June 18, 2001.)

5. Inv. Nos. 731-TA-926-927 (Preliminary) (Spring Table Grapes from Chile and Mexico)—briefing and vote. (The Commission is currently scheduled to transmit its determination to the Secretary of Commerce on June 11, 2001; Commissioners' opinions are currently scheduled to be transmitted to the Secretary of Commerce on June 18, 2001.)

6. Outstanding action jackets:

(1) Document No. INV-01-076: Concerning Inv. No. TA-204-6 (Certain Steel Wire Rod).

In accordance with Commission policy, subject matter listed above, not disposed of at the scheduled meeting, may be carried over to the agenda of the following meeting.

Issued: June 4, 2001.
By order of the Commission.
Donna R. Koehnke,
Secretary.

[FR Doc. 01-14576 Filed 6-6-01; 10:58 am]

BILLING CODE 7020-02-U